DEPARTMENT OF TRANSPORTATION

Federal Highway Administration

[Docket No. FHWA-2016-0032]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on April 27, 2016. We are required to publish this notice in the Federal Register by the Paperwork Reduction Act of 1995.

DATES: Please submit comments by December 2, 2016.

ADDRESSES: You may send comments within 30 days to the Office of Information and Regulatory Affairs, Office of Management and Budget, 725 17th Street NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2016-0032.

FOR FURTHER INFORMATION CONTACT: Aileen Varela-Margolles, 202-366-1701, Office of Environment, Planning and Realty, Federal Highway Administration, Department of Transportation, 1200 New Jersey Avenue SE., Washington, DC 20590. Office hours are from 8 a.m. to 5 p.m., Monday through Friday, except Federal holidays.

SUPPLEMENTARY INFORMATION: Title: Comment collection on the draft Traffic Noise Model's (TNM)® 3.0 Model Performance and Usability.

Background: 23 CFR 772 Procedures for Abatement of Highway Traffic Noise and Construction Noise Section 772.9(a) states that `any analysis required by this subpart must use the FHWA [Federal Highway Administration] Traffic Noise Model (TNM)'. FHWA recently completed a new version of TNM®. The draft TNM® version 3.0 features a new User Interface (UI), updated acoustical information, and interoperability with the software packages for Esri's ArcGIS®, AutoDesk's AutoCAD®, and Bentley's MicroStation®. By releasing the draft TNM® version 3.0, FHWA is allowing users to provide comments and feedback on the model's functionality, its interface with the software packages and its usability for a variety of project types.

Persons who elect to provide comments on the draft TNM® version 3.0 will have to download the free TNM® software via the FHWA TNM® version 3.0 Web site at: http://www.fhwa.dot.gov/environment/noise/traffic_noise_model/tnm_v30/.

In order to encourage users to submit their comments and facilitate FHWA review of these comments, FHWA will set up an online portal on this Web site with standardized questions, which will automatically sort user comments into broad categories. It is this portal's questions which are the subject of this OMB ICR FR Notice.

The tool will include four standard questions. Depending on their responses participants may answer a minimum of one question or the maximum four questions. The first three questions allow the choice of one of two possible responses via drop down menus where one leads to a blank comment box with an option to add attachments, and the other response leads to another standard question for further detailed categorization. The fourth question allows selection of multiple responses via checkboxes.

The first question will sort comments into two categories—those wishing to request documentation and/or guidance, or those who would like to provide comments or ask a question. The second question asks users what their comment or question relates to—the aesthetics or the functionality. Users who select functionality are asked a third question that will sort their comment into either the functionality of the acoustics or the functionality of the user interface (UI). If users elect the UI they will be allowed to check multiple boxes from a list of possible concerns. All responses will lead to the blank comment box with an option to add attachments totaling no more than 500 mb in size. Participation by using the model and providing comments is entirely voluntary.

Respondents: Approximately 200 participants including the 52 State DOTs, consultant/contractors, researchers, academia and other interested transportation and environmental stakeholders.

Estimated Average Burden per Response: Estimated time is approximately 15 hours per participant over the six months. Participants are each expected to spend 10 minutes per comment and to enter an average of 20 questions and/or comments each. Time expended will vary based on the number and complexity of the situations the user is modeling.

Estimated Total Annual Burden: The estimated total annual burden for all

respondents is approximately 3,667 hours over six months.

Electronic Access: For access to the docket to read background documents or comments received, go to http://www.regulations.gov. Follow the online instructions for accessing the dockets.

Authority: The Paperwork Reduction Act of 1995; 44 U.S.C. Chapter 35, as amended; and 49 CFR 1.48.

Issued on: October 27, 2016.
Michael Howell,
Information Collection Officer.

[FR Doc. 2016-26435 Filed 11-1-16; 8:45 am]

BILLING CODE 4910-22-P